DEPARTMENT OF AGRICULTURE

Submission for OMB Review; Comment Request

September 12, 2014.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by October 17, 2014 will be considered. Written comments should be addressed to: Desk Officer for Agriculture, Office of Information and Regulatory Affairs, Office of Management and Budget (OMB), New Executive Office Building, 725-17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: National Veterinary Services Laboratories Request Forms.

OMB Control Number: 0579—NEW.

Summary of Collection: The Animal Health Protection Act (7 U.S.C. 8301-8317) provides the Secretary of Agriculture broad authority to prohibit or restrict the importation or entry of any animal, article, or means of conveyance, if USDA determines that the prohibition or restriction is necessary to prevent the introduction into or spread with the United States of any pest or disease of livestock. In connection with this disease prevention mission, the Animal and Plant Health Inspection Service (APHIS) National Veterinary Services Laboratories (NVSL) safeguard U.S. animal health and contribute to public health by ensuring that timely and accurate laboratory support is provided by their nationwide animal health diagnostic system.

Need and Use of the Information: APHIS will collect information using VS Form 4-9, Request for Reagents or Supplies; VS Form 4-10, NVSL Customer Contact Update; and VS Form 4-11, Request for Training at NVSL. These forms are used to safeguard the U.S. animal population from pests and diseases. If the information was collected less frequently or not collected, APHIS would be unable to process reagent orders or provide training that customer's desire.

Description of respondents: Individuals or households; Not for-profit Institutions; State, Local or Tribal Government.

Number of Respondents: 1,085.

Frequency of Responses: Reporting: On occasion.

Total Burden Hours: 942.

Ruth Brown,
Departmental Information Collection Clearance Officer.

[FR Doc. 2014-22158 Filed 9-16-14; 8:45 am]

BILLING CODE 3410-34-P